DEPARTMENT OF HOMELAND SECURITY

Coast Guard

[Docket Number USCG-2021-0191]

Final Record of Decision for the Waterways Commerce Cutter Acquisition Program's Final Programmatic Environmental Impact Statement

AGENCY: Coast Guard, DHS.

ACTION: Notice of availability of record of decision.

SUMMARY: In accordance with the National Environmental Policy Act (NEPA) of 1969 as amended and the Council on Environmental Quality NEPA Regulations, the Coast Guard has prepared a Record of Decision (ROD) for the Waterways Commerce Cutter (WCC) Program's acquisition and operation of a planned 30 WCCs and by this notice, is announcing the availability of the ROD. The Coast Guard's decision to implement Alternative 1, described in the WCC's Final Programmatic Environmental Impact Statement (PEIS), will enable the Coast Guard to fulfill Aids to Navigation (ATON) mission requirements that are supported by WCCs while implementing a full range of mitigation measures.

DATES: Mr. Aaron Pagnotti, Program Manager, signed the Record of Decision on April 22, 2022.

ADDRESSES: The Final ROD, the complete text of the Final PEIS, and supporting documents related to this decision are available in the docket which can be found by searching the docket number USCG-2021-0191 using the Federal eRulemaking Portal at https://www.regulations.gov or at https://www.dcms.uscg.mil/Our-Organization/Assistant-Commandant-for-Engineering-Logistics-CG-4-/Program-Offices/Environmental-Management/Environmental-Planning-and-Historic-Preservation/.

FOR FURTHER INFORMATION CONTACT: If you have questions about the ROD, contact Lieutenant Commander S. Krolman, Waterways Commerce Cutter Program, U.S. Coast Guard; phone 202-475-3104; email HQS-SMB-CG-WaterwaysCommerceCutter@uscg.mil.

SUPPLEMENTARY INFORMATION: Pursuant to Section 102(2)(c) of the National Environmental Policy Act (NEPA) of 1969, Sections 4321 et seq. of Title 42 United States Code, and Council on Environmental Quality Regulations (Sections 1500-1508 of Title 40 Code of Federal Regulations [CFR]), the Coast Guard announces its decision to implement the Coast Guard's preferred Alternative, Alternative 1, including the full range of mitigation measures, as described in the WCC's Final PEIS. This decision will enable the Coast Guard to carry out primary missions supported by WCCs. A detailed description of Alternative 1 is provided in Chapter 2 (Proposed Action and Alternatives) of the WCC Final PEIS.

In the Final PEIS, the Coast Guard identified the Proposed Action as its preferred alternative in meeting the purpose and need to fulfill ATON mission requirements in the Inland Waterways and Western Rivers proposed action area, which includes portions of the Alaska Inside Passage, portions of the Great Lakes, and several other navigable waterways around the United States. The Proposed Action includes the acquisition and operation of a planned 30 WCCs to replace the capabilities of the existing inland tender fleet, thereby enabling the safe navigation of waters that support the nation's economy through maritime commerce throughout the Marine Transportation System.

Following publication of a Notice of Intent (NOI) to prepare a PEIS on April 19, 2021 (86 FR 20376), the Coast Guard held a public meeting on May 11, 2021 (86 FR 22444, April 28,2021), and then prepared a Draft PEIS in accordance with NEPA, as implemented by the CEQ Regulations (40 CFR 1500 et seq.); DHS Directive Number 023-01, Rev. 01 and Instruction 023-01-001, Rev. 01; and Coast Guard Commandant Instruction 5090.1. On September 24, 2021, the Coast Guard published a Notice of Availability (NOA) and a request for comments on the Draft PEIS (86 FR 53086). The Coast Guard considered and addressed in the Final PEIS comments received on the Draft PEIS during the comment period. Public comments did not result in substantive revisions or additions to the Draft PEIS. Responses to comments are in Appendix G of the Final PEIS.

On March 18, 2022, a NOA of the Final PEIS published in the Federal Register (87 FR 15443) initiating a 30-day opportunity to object. The Coast Guard received two comments in support of selecting the preferred alternative and did not receive any eligible objections. The Final ROD documents the rationale for approving the Final PEIS and is consistent with the Reviewing Officer's instructions.

Responsible Official: The Responsible Official for approving the Final ROD is Mr. Aaron Pagnotti, Program Mananger, who signed the ROD on April 22, 2022.

Dated: April 22, 2022.
Aaron Pagnotti,
Waterways Commerce Cutter Program Manager.

[FR Doc. 2022-08991 Filed 4-26-22; 8:45 am]

BILLING CODE 9110-04-P